INTERNATIONAL TRADE COMMISSION

[Investigation No. 332-607]

Nonfat Milk Solids: Competitive Conditions for the United States and Major Foreign Suppliers

AGENCY: United States International Trade Commission.

ACTION: Notice of investigation and scheduling of a public hearing.

SUMMARY: Following receipt on April 23, 2025, of a request from the U.S. Trade Representative (the Trade Representative) under section 332(g) of the Tariff Act of 1930, the U.S. International Trade Commission (Commission) instituted Investigation No. 332-607, “Nonfat Milk Solids: Competitive Conditions for the United States and Major Foreign Suppliers”. The Trade Representative requested that the Commission conduct an investigation and prepare a report on the global competitiveness of the U.S. nonfat milk solids industry.

DATES:

July 14, 2025: Deadline for filing requests to appear at the public hearing.

July 16, 2025: Deadline for filing prehearing briefs and statements.

July 21, 2025: Deadline for filing electronic copies of hearing oral statements.

July 28, 2025: Public hearing.

August 11, 2025: Deadline for filing posthearing briefs.

October 14, 2025: Deadline for filing all other written submissions.

March 23, 2026: Transmittal of Commission report to the Trade Representative.

ADDRESSES: All Commission offices, including the Commission's hearing rooms, are located in the U.S. International Trade Commission Building, 500 E Street SW, Washington, DC. All written submissions should be addressed to the Secretary, U.S. International Trade Commission, 500 E Street SW, Washington, DC 20436. The public record for this investigation may be viewed on the Commission's electronic docket (EDIS) at https://edis.usitc.gov.

FOR FURTHER INFORMATION CONTACT: Project Leader Rudy Telles Jr. (202-205-2597 or Rodolfo.Telles@usitc.gov) or Deputy Project Leaders Kim Ha (202-205-3343 or Kim.Ha@usitc.gov) and Ivan Lee (202-205-2163 or Ivan.Lee@usitc.gov) for information specific to this investigation. For information on the legal aspects of this investigation, contact Brian Allen (202-205-3034 or Brian.Allen@usitc.gov) of the Commission's Office of the General Counsel. The media should contact Claire Huber, Office of External Relations (202-205-1819 or Claire.Huber@usitc.gov). Hearing-impaired individuals are advised that information on this matter can be obtained by contacting the Commission's TDD terminal on 202-205-1810. General information concerning the Commission may be obtained by accessing its internet address (https://www.usitc.gov). Persons with mobility impairments who will need special assistance in gaining access to the Commission should contact the Office of the Secretary at 202-205-2000.

SUPPLEMENTARY INFORMATION:

Background: As requested by the Trade Representative, the Commission has instituted an investigation under section 332(g) of the Tariff Act of 1930 (19 U.S.C. 1332(g)) to produce a report on the global competitiveness of the U.S. nonfat milk solids industry. Specifically, the Trade Representative has requested that the Commission prepare a report that includes the following:

• an overview of the global market for products containing high levels of nonfat milk solids in their various forms, including such factors as product end uses, consumption, production, and trade;

• profiles of the industries producing and exporting products containing high levels of nonfat milk solids in the United States, Australia, Canada, selected EU member states, New Zealand, and other countries as may be relevant, including information about domestic production, consumption, and export trends in these countries;

• a comparison of the competitive strengths and weaknesses of producers and exporters of nonfat milk solid products from the United States and other major exporting countries, focusing on factors affecting delivered costs, product differentiation, and reliability of supply, as well as government policies and programs that directly or indirectly affect the production and exports of nonfat milk solid products from these countries; and

• an overview of the competitiveness of U.S. nonfat milk solid products relative to exports from the highlighted countries both in the U.S. market and in third-country markets.

As requested by the Trade Representative, the Commission will deliver the report no later than March 23, 2026. The Trade Representative asked that the Commission not include confidential business or national security classified information in its report. However, as detailed below, participants may submit confidential information to the Commission to inform its understanding of these issues, and such information will be protected in accordance with the Commission's Rules of Practice and Procedure. Participants are strongly encouraged to provide any supporting data and information along with their views.

Public hearing: A public hearing in connection with this investigation will be held beginning at 9:30 a.m., July 28, 2025, in the Main Hearing Room of the U.S. International Trade Commission, 500 E Street SW, Washington, DC 20436. The hearing can also be accessed remotely using the WebEx videoconference platform. A link to the hearing will be posted on the Commission's website at https://www.usitc.gov/calendarpad/calendar.html.

Requests to appear at the hearing should be filed with the Secretary to the Commission no later than 5:15 p.m., July 14, 2025, in accordance with the requirements in the “Written Submissions” section below. Any requests to appear as a witness via videoconference must be included with your request to appear. Requests to appear as a witness via videoconference must include a statement explaining why the witness cannot appear in person; the Chair, or other person designated to conduct the investigation, may at their discretion for good cause shown, grant such requests. Requests to appear as a witness via videoconference due to illness or a positive COVID-19 test result may be submitted by 3 p.m. the business day prior to the hearing.

All prehearing briefs and statements should be filed no later than 5:15 p.m., July 16, 2025. To facilitate the hearing, including the preparation of an accurate written public transcript of the hearing, oral testimony to be presented at the hearing must be submitted to the Commission electronically no later than noon, July 21, 2025. All posthearing briefs and statements should be filed no later than 5:15 p.m., August 11, 2025. Posthearing briefs and statements should address matters raised at the hearing. For a description of the different types of written briefs and statements, see the “Definitions” section below.

In the event that, as of the close of business on July 14, 2025, no witnesses are scheduled to appear at the hearing, the hearing will be canceled. Any person interested in attending the hearing as an observer or nonparticipant should check the Commission website as indicated above for information concerning whether the hearing will be held.

Written submissions: In lieu of or in addition to participating in the hearing, interested persons are invited to file written submissions concerning this investigation. All written submissions should be addressed to the Secretary, and should be received no later than 5:15 p.m., October 14, 2025. All written submissions must conform to the provisions of section 201.8 of the Commission's Rules of Practice and Procedure (19 CFR 201.8). Filings must be made through the Commission's Electronic Document Information System (EDIS, https://edis.usitc.gov). Persons with questions regarding electronic filing should contact the Office of the Secretary, Docket Services Division (202-205-1802), email EDIS3help@usitc.gov, or consult the Commission's Handbook on Filing Procedures.

Definitions of types of documents that may be filed; Requirements: In addition to requests to appear at the hearing, this notice provides for the possible filing of four types of documents: prehearing briefs, hearing oral statements, posthearing briefs, and other written submissions.

(1) Prehearing briefs refers to written materials relevant to the investigation and submitted in advance of the hearing, and includes written views on matters that are the subject of the investigation, supporting materials, and any other written materials that you consider will help the Commission in understanding your views. You should file a prehearing brief particularly if you plan to testify at the hearing on behalf of an industry group, company, or other organization, and wish to provide detailed views or information that will support or supplement your testimony.

(2) Hearing oral statements refers to the actual oral statement that you intend to present at the hearing. Do not include any confidential business information (CBI) in that statement. If you plan to testify, you must file a copy of your oral statement by the date specified in this notice. This statement will allow Commissioners to understand your position in advance of the hearing and will also assist the court reporter in preparing an accurate transcript of the hearing (e.g., names spelled correctly).

(3) Posthearing briefs refers to submissions filed after the hearing by persons who appeared at the hearing. Such briefs: (a) should be limited to matters that arose during the hearing; (b) should respond to any Commissioner and staff questions addressed to you at the hearing; (c) should clarify, amplify, or correct any statements you made at the hearing; and (d) may, at your option, address or rebut statements made by other participants in the hearing.

(4) Other written submissions refers to any other written submissions that interested persons wish to make, regardless of whether they appeared at the hearing, and may include new information or updates of information previously provided.

In accordance with the provisions of section 201.8 of the Commission's Rules of Practice and Procedure (19 CFR 201.8), the document must identify on its cover (1) the investigation number and title and the type of document filed (i.e., prehearing brief, oral statement of (name), posthearing brief, or written submission), (2) the name and signature of the person filing it, (3) the name of the organization that the submission is filed on behalf of, and (4) whether it contains CBI. If it contains CBI, it must comply with the marking and other requirements set out below in this notice relating to CBI. Submitters of written documents (other than hearing oral statements) are encouraged to include a short summary of their position or interest at the beginning of the document, and a table of contents when the document addresses multiple issues.

Confidential business information: Any submissions that contain CBI must also conform to the requirements of section 201.6 of the Commission's Rules of Practice and Procedure (19 CFR 201.6). Section 201.6 of the rules requires that the cover of the document and the individual pages be clearly marked as to whether they are the “confidential” or “nonconfidential” version, and that the CBI is clearly identified by means of brackets. All written submissions, except for CBI, will be made available for inspection by interested persons.

As requested by the Trade Representative, the Commission will not include any CBI in its report. However, all information, including CBI, submitted in this investigation may be disclosed to and used by: (i) the Commission, its employees and offices, and contract personnel (a) for developing or maintaining the records of this or a related proceeding, or (b) in internal investigations, audits, reviews, and evaluations relating to the programs, personnel, and operations of the Commission, including under 5 U.S.C. Appendix 3; or (ii) U.S. government employees and contract personnel for cybersecurity purposes. The Commission will not otherwise disclose any CBI in a way that would reveal the operations of the firm supplying the information.

Summaries of views of interested persons: Interested persons wishing to have a summary of their views included in the report should include a summary with a written submission on or before October 14, 2025, and should mark the summary as having been provided for that purpose. The summary should be clearly marked as “summary for inclusion in the report” at the top of the page. The summary may not exceed 500 words and should not include any CBI. The summary will be published as provided if it meets these requirements and is germane to the subject matter of the investigation. The Commission will list the name of the organization furnishing the summary and will include a link where the written submission can be found.

By order of the Commission.
Issued: May 20, 2025.
Lisa Barton,
Secretary to the Commission.

[FR Doc. 2025-09339 Filed 5-22-25; 8:45 am]

BILLING CODE 7020-02-P